FEDERAL MARITIME COMMISSION

Ocean Transportation Intermediary License Reissuances

The Commission gives notice that the following Ocean Transportation Intermediary license has been reissued pursuant to section 19 of the Shipping Act of 1984 (46 U.S.C. 40101).

License No.: 023672F.

Name: Straight Line Logistics, LLC.

Address: 2250 NW 96th Avenue, Suite 209, Doral, FL 33172.

Date Reissued: August 7, 2014.

Sandra L. Kusumoto,
Director, Bureau of Certification and Licensing.

[FR Doc. 2014-20569 Filed 8-28-14; 8:45 am]

BILLING CODE 6730-01-P